DENALI COMMISSION

Denali Commission's Identification of Federal Financial Assistance Infrastructure Programs Subject to the Build America, Buy America Provisions of the Infrastructure Investment and Jobs Act

AGENCY: Denali Commission.

ACTION: Notice.

SUMMARY: Section 70913(a) of the Infrastructure Investment and Jobs Act requires that the head of each Federal agency shall submit to the Office of Management and Budget and to Congress a report that identifies each Federal financial assistance program for infrastructure administered by the Federal agency, and that that report be published in the Federal Register.

FOR FURTHER INFORMATION CONTACT: John Whittington, Denali Commission, 510 L Street, Suite 410, Anchorage, AK 99501. Telephone: (907) 271-1640. Email: jwhittington@denali.gov.

SUPPLEMENTARY INFORMATION:

Background: The Infrastructure Investment and Jobs Act (IIJA), signed by President Biden on November 15, 2021, includes the Build America, Buy America Act (BABA), which requires each agency to submit to OMB and Congress a report within 60 days of enactment that lists all Federal financial assistance programs for infrastructure administered by the agency and that identifies the programs that are “deficient,” as defined in the Act.

The Act also requires that the agency must:

(1) identify all domestic content procurement preferences applicable to the Federal financial assistance;

(2) assess the applicability of the domestic content procurement preference requirements, including: (A) section 313 of title 23, United States Code; (B) section 5323(j) of title 49, United States Code; (C) section 22905(a) of title 49, United States Code; (D) section 50101 of title 49, United States Code; (E) section 603 of the Federal Water Pollution Control Act (33 U.S.C. 1388); (F) section 1452(a)(4) of the Safe Drinking Water Act (42 U.S.C. 300j-12(a)(4)); (G) section 5035 of the Water Infrastructure Finance and Innovation Act of 2014 (33 U.S.C. 3 3914); (H) any domestic content procurement preference included in an appropriations Act; and (I) any other domestic content procurement preference in Federal law (including regulations);

(3) provide details on any applicable domestic content procurement preference requirement, including the purpose, scope, applicability, and any exceptions and waivers issued under the requirement; and

(4) include a description of the type of infrastructure projects that receive funding under the program, including information relating to: (A) the number of entities that are participating in the program; (B) the amount of Federal funds that are made available for the program for each fiscal year; and (C) any other information the head of the Federal agency determines to be relevant.

Commission Infrastructure Programs: The Commission's program areas are determined annually by the Commissioners for the Denali Commission (“Commissioners”) through the approval on an annual workplan. The current workplan (FY 2022 Workplan) is listed below. These program areas can change from year to year as determined by the Commissioners but all of the funds for these areas could be used for an infrastructure project. Prior to the passage of the IIJA the Commission's Financial Assistance Awards were not subject to a Buy America requirement. Therefore all of the Commission's programs were inconsistent with section 70914. All of the Commission's programs are now compliant with the Buy America requirements.

| Base | TAPL | Total
Energy Reliability and Security:
Diesel Power Plants and Interties | $2,900,000 |  | $2,900,000
Wind, Hydro, Biomass, Other Proven Renewables and Emerging Technologies | 750,000 |  | 750,000
Audits, TA, & Community Energy Efficiency Improvements | 375,000 |  | 375,000
RPSU Maintenance and Improvement Projects | 900,000 |  | 900,000
Subtotal | 4,925,000 |  | 4,925,000
Bulk Fuel Safety and Security:
New/Refurbished Facilities |  | 1,500,000 | 1,500,000
Maintenance and Improvement Projects |  | 700,000 | 700,000
Subtotal | 0 | 2,200,000 | 2,200,000
Village Infrastructure Protection | 500,000 |  | 500,000
Transportation | 1,000,000 |  | 1,000,000
Sanitation:
Village Water, Wastewater and Solid Waste | 1,500,000 |  | 1,500,000
Subtotal | 1,500,000 |  | 1,500,000
Health Facilities | 750,000 |  | 750,000
Housing | 500,000 |  | 500,000
Broadband | 750,000 |  | 750,000
Workforce Development:
Energy and Bulk Fuel | 375,000 | 600,000 | 975,000
Other | 700,000 |  | 700,000
Subtotal | 1,075,000 | 600,000 | 1,675,000
Totals | 11,000,000 | 2,800,000 | 13,800,000

Domestic Content Procurement Preferences: The Commission has reviewed all other domestic content procurement preferences and determined they do not apply to the Commission.

John Whittington,
General Counsel.

[FR Doc. 2022-17988 Filed 8-19-22; 8:45 am]

BILLING CODE P